SMALL BUSINESS ADMINISTRATION

[Declaration of Disaster #3496, Amdt. 3]

State of Kansas

In accordance with notices received from the Department of Homeland Security—Federal Emergency Management Agency, effective May 30 and June 2, 2003, the above numbered declaration is hereby amended to establish the incident period for this disaster as beginning on May 4, 2003, and continuing through May 30, 2003. This declaration is also amended to include Allen County in the State of Kansas as a disaster area due to damages caused by severe storms, tornadoes and flooding occurring on May 4, 2003, and continuing through May 30, 2003.

All other counties contiguous to the above named primary county have been previously declared.

All other information remains the same, i.e., the deadline for filing applications for physical damage is July 7, 2003, and for economic injury the deadline is February 6, 2004.

(Catalog of Federal Domestic Assistance Program Nos. 59002 and 59008)

Dated: June 4, 2003.
Herbert L. Mitchell,
Associate Administrator for Disaster Assistance.

[FR Doc. 03-14853 Filed 6-11-03; 8:45 am]

BILLING CODE 8025-01-P